DEPARTMENT OF HOUSING AND URBAN DEVELOPMENT

[Docket No. FR-5800-N-02]

Notice of HUD's Funding Availability for Fiscal Years 2014 and 2015 Comprehensive Housing Counseling Grant Program

AGENCY: Office of the Assistant Secretary for Housing—Federal Housing Commissioner, Department of Housing and Urban Development (HUD).

ACTION: Notice of Funding Availability (NOFA) for the Department's Fiscal Year (FY) 2014-FY 2015 Comprehensive Housing Counseling Grant Program.

SUMMARY: This notice announces that HUD has posted on http://www.Grants.gov and http://www.HUD.gov its FY 2014 and FY 2015 Comprehensive Housing Counseling Grant Program NOFA. The Comprehensive Housing Counseling NOFA is comprised of both the General Section to the Department's FY 2014 NOFAs for Discretionary Programs (General Section) published February 19, 2014 and this NOFA. In addition to the application requirements set forth in the NOFA, applicants must also comply with the requirements established in the General Section, and all Housing Counseling Program requirements. HUD reserves the right to award both FY 2014 and FY 2015 funds on the basis of this single NOFA competition. FY 2015 grants to be awarded under this NOFA are contingent upon future Congressional action, and subject to the availability of funding. HUD's intent to award FY 2015 funds to FY 2014 and FY 2015 applicants will be announced separately if such funds become available.

FOR FURTHER INFORMATION CONTACT: Questions regarding specific program requirements should be directed to housing.counseling@hud.gov. Persons with hearing or speech impairments may access these numbers via TTY by calling the Federal Relay Service at 800-877-8339.

SUPPLEMENTARY INFORMATION: Today's Federal Register notice announces that HUD has posted its FY 2014 and FY 2015 Comprehensive Housing Counseling Grant Program NOFA on http://www.Grants.gov and http://portal.hud.gov/hudportal/HUD?src=/program_offices/administration/grants/fundsavail. Approximately $38.5 million is expected to be available for eligible applicants under this NOFA for FY 2014 through the Transportation, Housing and Urban Development, and Related Agencies Appropriations Act, 2014. HUD intends to award FY 2015 Comprehensive Housing Counseling Program Grants from this NOFA, provided such funds are appropriated by Congress. The application deadline date is April 7, 2014. Applications must be received by Grants.gov no later than 11:59:59 p.m. Eastern Time on the application deadline date. See Section IV of the General Section, regarding application procedures, timely filing requirements, and grace period policy. HUD may issue a technical correction to this NOFA if necessary. Any such technical correction will provide detailed instructions for Applicants regarding the resubmission of applications to address the revised NOFA requirements.

Dated: March 4, 2014.
Anne M. Morillon,
Director, Grants Management and Oversight Division, Office of Strategic Planning and Management.

[FR Doc. 2014-05093 Filed 3-7-14; 8:45 am]

BILLING CODE 4210-67-P